CORPORATION FOR NATIONAL AND COMMUNITY SERVICE

Sunshine Act Notice

The Board of Directors of the Corporation for National and Community Service gives notice of the following meeting:

DATE AND TIME: Tuesday, September 16, 2008, 4 p.m.-5:30 p.m.

PLACE: Corporation for National and Community Service; 8th Floor; 1201 New York Avenue, NW., Washington, DC 20525.

STATUS: Open.

MATTERS TO BE CONSIDERED:

I. Chair's Opening Comments and Swearing in of New Members.

II. Consideration of Prior Meeting's Minutes.

III. CEO Report.

IV. Committee Reports: Management and Governance Committee Report and Consideration of Revisions to the Corporation's Strategic Plan Targets; Program and Evaluation Committee Report; and Strategic Partnerships Committee Report.

V. Honoring Departing Board Members.

VI. Public Comment.

Accommodations: Anyone who needs an interpreter or other accommodation should notify the Corporation's contact person by 5 p.m. Monday, September 15, 2008.

CONTACT PERSON FOR MORE INFORMATION: Lisa Guccione, Senior Policy Advisor, Office of the CEO, Corporation for National and Community Service, 10th Floor, Room 10207, 1201 New York Avenue, NW., Washington, DC 20525. Phone (202) 606-6637. Fax (202) 606-3460. TDD: (202) 606-3472. E-mail: lguccione@cns.gov.

Dated: September 9, 2008.
Frank R. Trinity,
General Counsel.

[FR Doc. E8-21633 Filed 9-11-08; 4:15 pm]

BILLING CODE 6050-$$-P